DEPARTMENT OF ENERGY

Federal Energy Regulatory Commission

[Docket Nos. CP04-223-000 and CP04-293-000]

KeySpan LNG, L.P.; Notice of Meeting

March 1, 2005.

At the request of U.S. Senators Lincoln Chafee and Jack Reed, and U.S. Representatives Patrick Kennedy and James Langevin, Chairman Pat Wood will meet with the above parties to receive comments on KeySpan LNG, L.P.'s proposed liquefied natural gas (LNG) facility upgrade in Providence, Rhode Island. This meeting will also be attended by Rhode Island Attorney General Patrick Lynch and Providence Mayor David Cicilline. The meeting will be held at the FERC headquarters at 888 First Street NE; Washington, DC, from 9 to 10 a.m. (EST), Thursday, March 17, 2005.

FERC conferences are accessible under section 508 of the Rehabilitation Act of 1973. For accessibility accommodations please send an e-mail to accessibility@ferc.gov or call toll free (866) 208-3372 (voice) or 202-208-1659 (TTY), or send a FAX to 202-208-2106 with the required accommodations.

For further information please contact David Swearingen at (202) 502-6173 or e-mail david.swearingen@ferc.gov.

Magalie R. Salas,
Secretary.

[FR Doc. E5-907 Filed 3-4-05; 8:45 am]

BILLING CODE 6717-01-P